FEDERAL COMMUNICATIONS COMMISSION

Notice of Public Information Collection(s) Being Submitted for Review and Approval to the Office of Management and Budget (OMB), Comments Requested

July 15, 2011.

SUMMARY: The Federal Communications Commission, as part of its continuing effort to reduce paperwork burden invites the general public and other Federal agencies to take this opportunity to comment on the following information collection(s), as required by the Paperwork Reduction Act (PRA) of 1995, 44 U.S.C. 3501—3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before August 22, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov. To view a copy of this information collection request (ICR) submitted to OMB: (1) Go to the Web page, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Leslie F. Smith, Office of Managing Director, (202) 418-0217. For additional information or copies of the information collection(s), contact Leslie F. Smith via e-mail at PRA@fcc.gov or call 202-418-0217.

SUPPLEMENTARY INFORMATION:

OMB Control Number: 3060-0411.

Title: Procedures for Formal Complaints.

Form Number: FCC Form 485.

Type of Review: Revision of a currently approved collection.

Respondents: 20.

Number of Responses: 301.

Estimated Time per Response: 4.5 hours (average).

Frequency of Response: Recordkeeping; on occasion reporting requirements; and third party disclosure requirements.

Obligation to Respond: Required to obtain or retain benefits. Statutory authority for this information collection is contained in 47 U.S.C. 151, 154(i), 154(j), 206, 207, 208, 209, 301, 303, 304, 309, 316, 332, and 1302.

Total Annual Burden: 1,349 hours.

Total Annual Cost: $1,847, 600.

Privacy Act Impact Assessment: As noted on OMB Form 83-I, the information collection requirements affect individuals or households. As required by the Privacy Act of 1974, as amended, 5 U.S.C. 552a, and OMB Memorandum m-03-22 (September 22, 2003), the FCC is complying with these requirements by: (1) Having published a system of records notice (SORN) in the Federal Register on December 14, 2010 (75 FR 77872) for a system of records, FCC/EB-5, “Enforcement Bureau Activity Tracking System (EBATS).” The SORN became effective on January 24, 2001; and (2) consolidating and updating Privacy Impact Assessment (PIA). Together these two documents will cover the collection, maintenance, use, and disposal of all personally identifiable information (PII) that may be submitted as part of any formal complaint(s) that are filed.

Nature and Extent of Confidentiality: 47 CFR 1.731 provides for confidential treatment of materials disclosed or exchanged during the course of formal complaint proceedings when those materials have been identified by the disclosing party as proprietary or confidential. In the rare case in which a producing party believes that section 1.731 will not provide adequate protection for its asserted confidential material, it may request either that the opposing party consent to greater protection, or that the staff supervising the proceeding order greater protection.

Needs and Uses: 47 CFR 1.731 provides for confidential treatment of materials disclosed or exchanged during the course of formal complaint proceedings when those materials have been identified by the disclosing party as proprietary or confidential. In the rare case in which a producing party believes that section 1.731 will not provide adequate protection for its asserted confidential material, it may request either that the opposing party consent to greater protection, or that the staff supervising the proceeding order greater protection.

Needs and Uses: The Commission is seeking a revision of collection 3060-0411, which relates to the filing of formal complaints with the Federal Communications Commission. The revision is necessitated by the adoption of a new data roaming rule (47 CFR 20.12(e)) contained in the Second Report and Order, Reexamination of Roaming Obligations of Commercial Mobile Radio Service Providers and Other Providers of Mobile Data Services, WT Docket No. 05-265, FCC 11-52, that was adopted on April 7, 2011. The new data roaming rule requires commercial mobile data service providers to offer data roaming arrangements to other such providers on commercially reasonable terms and conditions, subject to certain limitations.

To resolve complaints between providers regarding compliance with data roaming obligations, the rule adopts by reference the procedures already in place for resolving formal complaints against common carriers, except that the remedy of damages, which may be requested in complaints against common carriers, is not available for complaints against commercial mobile data service providers. Specifically, a party alleging a violation of 47 CFR 20.12(e) may file a formal or informal complaint pursuant to the procedures in 47 CFR 1.716-1.718, 1.720, 1.721, and 1.723-1.735.

Sections 206-209 of the Communications Act of 1934, as amended (the “Act”), provide the statutory framework for the Commission's rules for resolving formal complaints against common carriers. Section 208(a) authorizes complaints by any person “complaining of anything done or omitted to be done by any common carrier” subject to the provisions of the Act. Section 208(a) states that if a carrier does not satisfy a complaint or there appears to be any reasonable ground for investigating the complaint, the Commission shall “investigate the matters complained of in such manner and by such means as it shall deem proper.” Certain categories of complaints are subject to a statutory deadline for resolution. See, e.g., 47 U.S.C. 208(b)(1) (imposing a five-month deadline for complaints challenging the “lawfulness of a charge, classification, regulation, or practice”).

Formal complaint proceedings before the Commission are similar to civil litigation in Federal district court. In fact, under section 207 of the Act, a party claiming to be damaged by a common carrier, may file its complaint with the Commission or in any district court of the United States, “but such person shall not have the right to pursue both such remedies” (47 U.S.C. 207). The Commission has promulgated rules (the “Formal Complaint Rules”) to govern its formal complaint proceedings that are similar in many respects to the Federal Rules of Civil Procedure. See 47 CFR 1.720-1.736. These rules require the submission of information from the parties necessary to create a record on which the Commission can decide complex legal and factual issues. As described in section 1.720 of the Commission's rules, formal complaint proceedings are resolved on a written record consisting of a complaint, answer or response, and joint statement of stipulated facts, disputed facts and key legal issues, along with all associated affidavits, exhibits and other attachments.

This collection of information includes the process for submitting a formal complaint. The Commission uses this information to determine the sufficiency of complaints and to resolve the merits of disputes between the parties. Orders issued by the Commission in formal complaint proceedings are based upon evidence and argument produced by the parties in accordance with the Formal Complaint Rules. If the information were not collected, the Commission would not be able to resolve common carrier-related complaint proceedings, as required by section 208 of the Act, or the complaints against commercial mobile data service providers that will be critically important to ensure compliance with the data roaming rule, 47 CFR 20.12(e).

These complaint procedures (which are supported by the current collection 3060-0411) already apply to voice roaming complaints, and the Commission finds that it is in the public interest to ensure a consistent Commission process for resolving both voice and data roaming complaints. Moreover, some roaming disputes will involve both data and voice and are likely to have factual issues common to both types of roaming. Using the same process allows, but does not require, a party to bring a single proceeding to address such a dispute, rather than having to bifurcate the matter and initiate two separate proceedings under two different sets of procedures. This, in turn, will be more efficient for the parties involved, as well as for the Commission, and should result in faster resolution of such disputes.

Federal Communications Commission.
Marlene H. Dortch,
Secretary, Office of the Secretary, Office of Managing Director.

[FR Doc. 2011-18488 Filed 7-21-11; 8:45 am]

BILLING CODE 6712-01-P